DEPARTMENT OF AGRICULTURE

Forest Service

Boundary Establishment for North Fork Crooked National Wild and Scenic River, Ochoco National Forest, Crook County, Oregon

AGENCY: Forest Service, USDA.

ACTION: Notice of availability.

SUMMARY: In accordance with Section 3(b) of the Wild and Scenic Rivers Act, the USDA Forest Service, Washington Office, is transmitting the final boundary of the North Fork Crooked National Wild and Scenic River to Congress.

FOR FURTHER INFORMATION CONTACT: Information may be obtained by Contacting the following offices: Ochoco National Forest, P.O. Box 490, Prineville, Oregon 97754, (541) 416-6500; or Bureau of Land Management, Prineville District, 3050 NE Third Street, Prineville, Oregon 97754, (541) 447-4115.

Individuals who use telecommunication devices for the deaf (TDD) may call the Federal Information Relay Service (FIRS) at 1-800-877-8339 between 8 a.m. and 8 p.m., Eastern Time, Monday through Friday.

SUPPLEMENTARY INFORMATION: The North Fork Crooked Wild and Scenic River boundary is available for review at the following offices: USDA Forest Service, Recreation, Yates Building, 14th and Independence Avenues, SW., Washington, DC 20024; USDA Forest Service, Pacific Northwest Region, 333 SW First Avenue, Portland, Oregon 97208-3623; Ochoco National Forest, P.O. Box 490, Prineville, Oregon 97754, (541) 416-6500; or DOI Bureau of Land Management, National Landscape Conservation System, 20 M Street, SE., Washington, DC 20036, (202) 912-7179; DOI Bureau of Land Management, Oregon State Office, 333 SW First Avenue, Portland, Oregon 97208; and Bureau of Land Management, Prineville District, 3050 NE. Third Street, Prineville, Oregon 97754, (541) 447-4115.

The Omnibus Oregon Wild and Scenic Rivers Act of 1988 (Pub. L. 100-557) of October 28, 1988, designated the North Fork Crooked River, Oregon, as a National Wild and Scenic River, to be administered by the Secretary of Agriculture. As specified by law, the boundary will not be effective until ninety (90) days after Congress receives the transmittal.

Dated: September 27, 2011.
Claire Lavendel,
Regional Director of Lands.

[FR Doc. 2011-25763 Filed 10-5-11; 8:45 am]

BILLING CODE 3410-11-P